ENVIRONMENTAL PROTECTION AGENCY

[FRL-7632-6]

Performance Evaluation Reports for Fiscal Year 2003; Section 105 Grants; Iowa, Kansas, Missouri, Nebraska, and the Unified Government of Wyandotte County, Kansas City, Kansas

AGENCY: Environmental Protection Agency (EPA).

ACTION: Notice of availability of grantee performance evaluation reports.

SUMMARY: EPA's grant regulations (40 CFR 35.140) require the Agency to conduct yearly evaluations on the performance of grant recipients under approved state/EPA agreements. EPA's regulations for regional consistency (40 CFR 56.7) require that the Agency notify the public of the availability of the reports of such evaluation. EPA performed FY-03 end-of-year evaluations of four state air pollution control programs (Iowa Department of Natural Resources; Kansas Department of Health and Environment; Missouri Department of Natural Resources; Nebraska Department of Environmental Quality); and one local air pollution control programs (Unified Government of Wyandotte County, Kansas City, Kansas). These evaluations were conducted to assess the agencies' performance under the grants awarded by EPA under authority of section 105 of the Clean Air Act.

ADDRESSES: Copies of the evaluation reports are available for public inspection at EPA's Region 7 Air Planning and Development Branch, 901 North 5th Street, Kansas City, Kansas 66101.

FOR FURTHER INFORMATION CONTACT: Evelyn VanGoethem, (913) 551-7659, or by e-mail at vangoethem.evelyn@epa.gov.

Dated: February 27, 2004.
James B. Gulliford,
Regional Administrator, Region 7.

[FR Doc. 04-5127 Filed 3-5-04; 8:45 am]

BILLING CODE 6560-50-P